FEDERAL COMMUNICATIONS COMMISSION

47 CFR Part 64

[CG Docket No. 02-386; FCC 06-134]

Rules and Regulations Implementing Minimum Customer Account Record Exchange Obligations on All Local and Interexchange Carriers

AGENCY: Federal Communications Commission.

ACTION: Final rule.

SUMMARY: In this document, the Commission adopts minor modifications of the Commission's customer account record exchange (CARE) rules. The Commission concluded that minor modifications to its rules are needed to clarify carriers' respective obligations under that section in order to ensure accurate billing of end user customers, and to execute end user customer requests in a timely manner.

DATES: The rules in this document contain information collection requirements that have not been approved by the Office of Management and Budget (OMB). The Commission will publish a document in the Federal Register announcing the effective date for these rules. Written comments by the public on the new and modified information collections are due February 12, 2007.

ADDRESSES: Federal Communications Commission, 445 12th Street, SW., Washington, DC 20554.

FOR FURTHER INFORMATION CONTACT: David Marks, Consumer & Governmental Affairs Bureau at (202) 418-0347 (voice), or e-mail David.Marks@fcc.gov.

SUPPLEMENTARY INFORMATION: On February 25, 2005, the Commission released a Report and Order and Further Notice of Proposed Rulemaking (Report and Order), Rules and Regulations Implementing Minimum Customer Account Record Exchange Obligations on All Local and Interexchange Carriers, published at 70 FR 32258, June 2, 2005 in which it established mandatory, minimum standards governing the exchange of customer account information between local exchange carriers (LECs) and interexchange carriers (IXCs). On August 9, 2005, the Commission released a public notice requesting comment on proposed clarifications and modifications to the rules (see Consumer & Governmental Affairs Bureau Seeks Comment on Proposed Modifications/Clarifications to Rules Governing the Exchange of Customer Account Information Between Local and Long Distance Carriers, CG Docket No. 02-386, Public Notice, DA 05-2266, 70 FR 53137 (Sept. 7, 2005) (Public Notice)). This is a summary of the Commission's Order on Reconsideration, CG Docket No. 02-386, FCC 06-134, adopted September 6, 2003, and released September 13, 2006.

This document contains new information collection requirements subject to the PRA of 1995, Public Law 104-13. These requirements will be submitted to OMB for review under section 3507(d) of the PRA. OMB, the general public, and other Federal agencies are invited to comment on the new information collection requirements contained in this proceeding. In addition to filing comments with the Secretary, a copy of any comments on the Paperwork Reduction Act (PRA) information collection requirements contained herein should be submitted to Leslie Smith, Federal Communications Commission, Room 1-C216, 445 12th Street, SW., Washington, DC 20554, or via the Internet to Leslie.Smith@fcc.gov, and to Allison E. Zaleski, OMB Desk Officer, Room 10236 NEOB, 725 17th Street, NW., Washington, DC 20503, via the Internet to Allison E. Zaleski@omb.eop.gov or via fax at (202) 395-6466.

Copies of any subsequently filed documents in this matter will be available for public inspection and copying during regular business hours at the FCC Reference Information Center, Portals II, 445 12th Street, SW., Room CY-A257, Washington, DC 20554. The complete text of this document may be purchased from the Commission's duplicating contractor, Best Copy and Printing, at Portals II, 445 12th Street, SW., Room CY-B402, Washington, DC 20554. Customers may contact the Commission's duplicating contractor at its Web site: http://www.bcpiweb.com or call 1-800-378-3160. To request materials in accessible formats for people with disabilities (Braille, large print, electronic files, audio format), send an e-mail to fcc504@fcc.gov or call the Consumer & Governmental Affairs Bureau at (202) 418-0530 (voice) or (202) 418-0432 (TTY).

Paperwork Reduction Act of 1995 Analysis

This document contains new information collection requirements. The Commission, as part of its continuing effort to reduce paperwork burdens, invites the general public to comment on the information collection requirements contained in the Order on Reconsideration as required by the Paperwork Reduction Act (PRA) of 1995, Public Law 104-13. Public and agency comments are due February 12, 2007. In addition, the Commission notes that pursuant to the Small Business Paperwork Relief Act of 2002, Public Law 107-198, see 44 U.S.C. 3506(c)(4), the Commission previously sought specific comment on how the Commission might “further reduce the information collection burden for small business concerns with fewer than 25 employees.” In the present document, the Commission undertook to minimize the burden of the new rules on small businesses and small entities. For example, the rules adopted here do not require the use of particular CARE codes for the exchange of customer account information. The Commission also does not adopt specific performance measurements for the timeliness and completeness of the transfer of customer account information between LECs and IXCs. Finally, the Commission notes that carriers subject to these requirements may use a variety of transmission mediums (e.g., facsimile, mail, electronic mail, cartridge) for the required information exchanges. These measures should substantially alleviate any burdens on businesses with fewer than 25 employees.

Synopsis

In this Order on Reconsideration, the Commission concludes that minor modifications to § 64.4002 are needed to clarify carriers' respective obligations under that rule section. Section 64.4002(d) is modified to require that a LEC notify an IXC when the LEC has removed at its local switch a presubscribed customer of the IXC in connection with the customer's selection of “no-PIC” status. In this context, the selection of “no-PIC” status by the customer refers to the selection of no carrier for interLATA service or no carrier for intraLATA service. The Commission concludes that this modification is needed to ensure that an IXC does not continue billing a customer for non-usage-related monthly charges where that customer has contacted his current LEC or his current IXC to select “no-PIC” status.

Section 64.4002(e) of the Commission's rules is modified to include the effective date of any changes to a customer's local service account and the carrier identification code of the customer's IXC among the categories of information that must be provided to the IXC by the LEC. The Commission concludes that knowing the effective date of account changes will help IXCs to maintain accurate customer account information and that including the carrier identification code of the customer's IXC will enable an IXC to verify that it is the proper recipient of the transmitted information.

Section 64.4002(g) of the Commission's rules is modified to make the information categories included in § 64.4002(g) consistent with those included in other LEC notification requirements.

Section 64.4002(g) also is modified to require that when a customer changes LECs, but wishes to retain his current PIC, the new LEC must so notify the current PIC so that the current PIC does not erroneously assume, absent additional notification from the new LEC, that the customer also wishes to cancel his current PIC.

Sections 64.4002(a)(6), (b)(6), (d)(5) and (f)(5) of the Commission's rules are modified to substitute the phrase “carrier identification code of the IXC” for the phrase “carrier identification code of the submitting LEC.” This “mirroring” of information back to the IXC by the LEC serves as a “handshake” and is needed to confirm that the LEC has properly identified the intended recipient of a particular notification.

Final Regulatory Flexibility Certification

The Regulatory Flexibility Act of 1980, as amended (RFA), requires that a regulatory flexibility analysis be prepared for notice-and-comment rulemaking proceedings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

On August 9, 2005, the Commission released a Public Notice seeking comment on the Coalition's proposed clarifications and modifications to § 64.4002 of the Commission's rules. This Order on Reconsideration adopts clarifications and modifications that are in the nature of technical corrections to the Commission's customer account record exchange rules that do not have a significant economic impact on entities subject to those rules. First, our modification to § 64.4002(d) makes this provision consistent with similar notification requirements adopted in the CARE Order simply by requiring a LEC to confirm its receipt of a particular IXC-initiated notification with an appropriate response. Similarly, we adopt modifications to §§ 64.4002(e) and (g) to include within the information exchanges prescribed by those section, the same standard categories of information that carriers routinely must provide in connection with other notification obligations adopted in the CARE Order. Changing these two sections to parallel other sections of the Commission's CARE rules simplifies and, thereby, reduces the compliance burden. Lastly, we modify §§ 64.4002(a)(6), (b)(6), (d)(5) and (f)(5) to change the phrase “carrier identification code of the submitting LEC” to read “carrier identification code of the submitting IXC.” This change adds no additional compliance burden. The Commission believes that the compliance burden, and resulting economic impact on entities subject thereto, will be de minimis.

Therefore, we certify for purposes of the RFA that the clarifications and modifications we adopt in this Order on Reconsideration will not have a significant economic impact on a substantial number of small entities.

The Commission will send a copy of the Order on Reconsideration, including a copy of this Final Regulatory Flexibility Certification (FRFC), to the Chief Counsel for Advocacy of the SBA. This final certification will also be published in the Federal Register.

Congressional Review Act

The Commission will send a copy of the Order on Reconsideration, including the FRFC, in a report to be sent to Congress and the Comptroller General pursuant to the Congressional Review Act. In addition, the Commission will send a copy of the Order on Reconsideration, including this FRFC, to the Chief Counsel for Advocacy of the Small Business Administration. A copy of the Order on Reconsideration and FRFC (or summaries thereof) will also be published in the Federal Register. (See 5 U.S.C. 604(b)).

Ordering Clauses

Pursuant to the authority contained in sections 1-4, 201, 202, 222, 258, and 303(r) of the Communications Act of 1934, as amended; 47 U.S.C. 151-154, 201, 202, 222, 258, and 303(r), the Order on Reconsideration Is Adopted.

Pursuant to the authority contained in sections 1-4, 201, 202, 222, 258, and 303(r) of the Communications Act of 1934, as amended; 47 U.S.C. 151-154, 201, 202, 222, 258, and 303(r), part 64 of the Commission's rules, 47 CFR part 64, Is Amended as set forth below.

Because many of the rules and requirements contained in this Order on Reconsideration and as set forth below contain information collection requirements under the PRA, the rules and requirements Shall Not Become Effective until the information collection requirements have been approved by OMB. The Commission will publish a document in the Federal Register announcing the effective date of these rules.

Pursuant to the authority contained in sections 1-4, 201, 202, 222, 258, and 303(r) of the Communications Act of 1934, as amended; 47 U.S.C. 151-154, 201, 202, 222, 258, and 303(r), and § 1.407 of the Commission's rules, 47 CFR 1.407, the Request for Modification filed by AT&T Corp, BellSouth Corporation, Sprint Corporation, Qwest Communications International Inc., and VerizonCommunications, Inc. on April 15, 2005, and June 15, 2005, is granted in part and denied in part, to the extent provided herein.

List of Subjects in 47 CFR Part 64

Reporting and recordkeeping requirements, telecommunications, telephone.

Federal Communications Commission.
Marlene H. Dortch,
Secretary.

Rule Changes

For the reasons discussed in the preamble, the Federal Communications Commission amends 47 CFR part 64 as follows:

PART 64—MISCELLANEOUS RULES RELATING TO COMMON CARRIERS

1. The authority citation continues to read as follows:

Authority: 47 U.S.C. 154, 254(k); secs. 403(b)(2)(B), (c), Pub. L. 104-104, 110 Stat. 56. Interpret or apply 47 U.S.C. 201, 218, 222, 225, 226, 228, and 254(k) unless otherwise noted.

2. Section 64.4002 is revised to read as follows:

§ 64.4002 Notification obligations of LECs.

To the extent that the information is reasonably available to a LEC, the LEC shall provide to an IXC the customer account information described in this section consistent with § 64.4004. Nothing in this section shall prevent a LEC from providing additional customer account information to an IXC to the extent that such additional information is necessary for billing purposes or to properly execute a customer's PIC order.

(a) Customer-submitted PIC order. Upon receiving and processing a PIC selection submitted by a customer and placing the customer on the network of the customer's preferred interexchange carrier at the LEC's local switch, the LEC must notify the IXC of this event. The notification provided by the LEC to the IXC must contain all of the customer account information necessary to allow for proper billing of the customer by the IXC including but not limited to:

(1) The customer's billing telephone number, working telephone number, and billing name and address;

(2) The effective date of the PIC change;

(3) A statement describing the customer type (i.e., business or residential);

(4) A statement indicating, to the extent appropriate, that the customer's telephone service listing is not printed in a directory and is not available from directory assistance or is not printed in a directory but is available from directory assistance;

(5) The jurisdictional scope of the PIC installation (i.e., intraLATA and/or interLATA and/or international);

(6) The carrier identification code of the IXC; and

(7) If relevant, a statement indicating that the customer's account is subject to a PIC freeze. The notification also must contain information, if relevant and to the extent that it is available, reflecting the fact that a customer's PIC selection was the result of:

(i) A move (an end user customer has moved from one location to another within a LEC's service territory);

(ii) A change in responsible billing party; or

(iii) The resolution of a PIC dispute.

(b) Confirmation of IXC-submitted PIC order. When a LEC has placed a customer on an IXC's network at the local switch in response to an IXC-submitted PIC order, the LEC must send a confirmation to the submitting IXC. The confirmation provided by the LEC to the IXC must include:

(1) The customer's billing telephone number, working telephone number, and billing name and address;

(2) The effective date of the PIC change;

(3) A statement describing the customer type (i.e., business or residential);

(4) A statement indicating, to the extent appropriate, if the customer's telephone service listing is not printed in a directory and is not available from directory assistance, or is not printed in a directory but is available from directory assistance;

(5) The jurisdictional scope of the PIC installation (i.e., intraLATA and/or interLATA and/or international); and

(6) The carrier identification code of the IXC. If the PIC order at issue originally was submitted by an underlying IXC on behalf of a toll reseller, the confirmation provided by the LEC to the IXC must indicate, to the extent that this information is known, a statement indicating that the customer's PIC is a toll reseller.

(c) Rejection of IXC-submitted PIC order. When a LEC rejects or otherwise does not act upon a PIC order submitted to it by an IXC, the LEC must notify the IXC and provide the reason(s) why the PIC order could not be processed. The notification provided by the LEC to the IXC must state that it has rejected the IXC-submitted PIC order and specify the reason(s) for the rejection (e.g., due to a lack of information, incorrect information, or a PIC freeze on the customer's account). The notification must contain the identical data elements that were provided to the LEC in the original IXC-submitted PIC order (i.e., mirror image of the original order), unless otherwise specified by this paragraph. If a LEC rejects an IXC-submitted PIC order for a multi-line account (i.e., the customer has selected the IXC as his PIC for two or more lines or terminals associated with his billing telephone number), the notification provided by the LEC rejecting that order must explain the effect of the rejection with respect to each line (working telephone number or terminal) associated with the customer's billing telephone number. A LEC is not required to generate a line-specific or terminal-specific response, however, and may communicate the rejection at the billing telephone level, when the LEC is unable to process an entire order, including all working telephone numbers and terminals associated with a particular billing telephone number. In addition, the notification must indicate the jurisdictional scope of the PIC order rejection (i.e., intraLATA and/or interLATA and/or international). If a LEC rejects a PIC order because:

(1) The customer's telephone number has been ported to another LEC; or

(2) The customer has otherwise changed local service providers, the LEC must include in its notification, to the extent that it is available, the identity of the customer's new LEC.

(d) Customer contacts LEC or new IXC to change PIC(s) or customer contacts LEC or current IXC to change PIC to No-PIC. When a LEC has removed at its local switch a presubscribed customer from an IXC's network in response to a customer order, upon receipt of a properly verified PIC order submitted by another IXC, or in response to a notification from the customer's current IXC relating to the customer's request to change his or her PIC to No-PIC, the LEC must notify the customer's former IXC of this event. The LEC must provide to the IXC the customer account information that is necessary to allow for proper final billing of the customer by the IXC including but not limited to:

(1) The customer's billing telephone number, working telephone number, and billing name and address;

(2) The effective date of the PIC change;

(3) A description of the customer type (i.e., business or residential);

(4) The jurisdictional scope of the lines or terminals affected (i.e., intraLATA and/or interLATA and/or international); and

(5) The carrier identification code of the IXC. If a customer changes PICs but retains the same LEC, the LEC is responsible for notifying both the old PIC and new PIC of the PIC change. The notification also must contain information, if relevant and to the extent that it is available, reflecting the fact that a customer's PIC removal was the result of:

(i) The customer moving from one location to another within the LEC's service territory, but where there is no change in local service provider;

(ii) A change of responsible party on an account; or

(iii) A disputed PIC selection.

(e) Particular changes to customer's local service account. When, according to a LEC's records, certain account or line information changes occur on a presubscribed customer's account, the LEC must communicate this information to the customer's PIC. For purposes of this paragraph, the LEC must provide to the appropriate IXC account change information that is necessary for the IXC to issue timely and accurate bills to its customers including but not limited to:

(1) The customer's billing telephone number, working telephone number, and billing name and address;

(2) The customer code assigned to that customer by the LEC;

(3) The type of customer account (i.e., business or residential);

(4) The status of the customer's telephone service listing, to the extent appropriate, as not printed in a directory and not available from directory assistance, or not printed in a directory but available from directory assistance; and

(5) The jurisdictional scope of the PIC installation (i.e., intraLATA and/or interLATA and/or international);

(6) The effective date of any change to a customer's local service account; and

(7) The carrier identification code of the IXC. If there are changes to the customer's billing or working telephone number, customer code, or customer type, the LEC must supply both the old and new information for each of these categories.

(f) Local service disconnection. Upon receipt of an end user customer's request to terminate his entire local service account or disconnect one or more lines (but not all lines) of a multi-line account, the LEC must notify the PIC(s) for the billing telephone number or working telephone number on the account of the account termination or lines disconnected. In conjunction with this notification requirement, the LEC must provide to a customer's PIC(s) all account termination or single/multi-line disconnection change information necessary for the PIC(s) to maintain accurate billing and PIC records, including but not limited to:

(1) The effective date of the termination/disconnection; and

(2) The customer's working and billing telephone numbers and billing name and address;

(3) The type of customer account (i.e., business or residential);

(4) The jurisdictional scope of the PIC installation (i.e., intraLATA and/or interLATA and/or international); and

(5) The carrier identification code of the IXC.

(g) Change of local service provider. When a customer changes LECs, the customer's former LEC must notify the customer's PIC(s) of the customer's change in LEC and, if known, the identity of the customer's new LEC. If the customer also makes a PIC change, the customer's former LEC must also notify the customer's former PIC(s) of the change. When a customer only changes LECs, the new LEC must notify the customer's current PIC(s) that the customer's PIC selection has not changed. If the customer also makes a PIC change, the new LEC must notify the customer's new PIC of the customer's PIC selection. If the customer's former LEC is unable to identify the customer's new LEC, the former LEC must notify the customer's PIC(s) of a local service disconnection as described in paragraph (f).

(1) The required notifications also must contain information, if relevant and to the extent that it is available, reflecting the fact that an account change was the result of:

(i) The customer porting his number to a new LEC;

(ii) A local resale arrangement (customer has transferred to local reseller); or

(iii) The discontinuation of a local resale arrangement;

(2) The notification provided by the LEC to the IXC must include:

(i) The customer's billing telephone number, working telephone number, and, billing name and address;

(ii) The effective date of the change of local service providers or PIC change;

(iii) A description of the customer type (i.e., business or residential);

(iv) The jurisdictional scope of the lines or terminals affected (i.e., intraLATA and/or interLATA and/or international); and

(v) The carrier identification code of the IXC.

(h) IXC requests for customer BNA information. Upon the request of an IXC, a LEC must provide the billing name and address information necessary to facilitate a customer's receipt of a timely, accurate bill for services rendered and/or to prevent fraud, regardless of the type of service the end user receives/has received from the requesting carrier (i.e., presubscribed, dial-around, casual). In response to an IXC's BNA request for ANI, a LEC must provide the BNA for the submitted ANI along with:

(1) The working telephone number for the ANI;

(2) The date of the BNA response;

(3) The carrier identification code of the submitting IXC; and

(4) A statement indicating, to the extent appropriate, if the customer's telephone service listing is not printed in a directory and is not available from directory assistance, or is not printed in a directory but is available from directory assistance. A LEC that is unable to provide the BNA requested must provide the submitting carrier with the identical information contained in the original BNA request (i.e., the mirror image of the original request), along with the specific reason(s) why the requested information could not be provided. If the BNA is not available because the customer has changed local service providers or ported his telephone number, the LEC must include the identity of the new provider when this information is available.

[FR Doc. E6-20911 Filed 12-12-06; 8:45 am]

BILLING CODE 6712-01-P